DEPARTMENT OF TRANSPORTATION

Federal Aviation Administration

14 CFR Part 39

[Docket No. FAA-2017-0826; Product Identifier 2016-SW-084-AD; Amendment 39-19204; AD 2018-01-12 R1]

RIN 2120-AA64

Airworthiness Directives; Airbus Helicopters

AGENCY: Federal Aviation Administration (FAA), Department of Transportation (DOT).

ACTION: Final rule; correction.

SUMMARY: We are revising airworthiness directive (AD) 2018-01-12 for Airbus Helicopters Model AS350B3 helicopters to correct an error. As published, AD 2018-01-12 referenced an incorrect monostable toggle switch part number (P/N) in the preamble and regulatory text. This document corrects the error. In all other respects, the original document remains the same.

DATES: This AD becomes effective March 2, 2018.

The Director of the Federal Register approved the incorporation by reference of certain publications listed in this AD as of February 20, 2018 (83 FR 2039, January 16, 2018).

ADDRESSES: For service information identified in this final rule, contact Airbus Helicopters, 2701 N Forum Drive, Grand Prairie, TX 75052; telephone (972) 641-0000 or (800) 232-0323; fax (972) 641-3775; or at http://www.helicopters.airbus.com/website/en/ref/Technical-Support_73.html. You may review the referenced service information at the FAA, Office of the Regional Counsel, Southwest Region, 10101 Hillwood Pkwy., Room 6N-321, Fort Worth, TX 76177. It is also available on the internet at http://www.regulations.gov by searching for and locating Docket No. FAA-2017-0826.

Examining the AD Docket

You may examine the AD docket on the internet at http://www.regulations.gov by searching for and locating Docket No. FAA-2017-0826; or in person at Docket Operations between 9 a.m. and 5 p.m., Monday through Friday, except Federal holidays. The AD docket contains this AD, the European Aviation Safety Agency (EASA) AD, any incorporated-by-reference service information, the economic evaluation, any comments received, and other information. The street address for Docket Operations (telephone 800-647-5527) is in the ADDRESSES section.

FOR FURTHER INFORMATION CONTACT: George Schwab, Aviation Safety Engineer, Safety Management Section, Rotorcraft Standards Branch, FAA, 10101 Hillwood Pkwy., Fort Worth, TX 76177; telephone (817) 222-5110; email george.schwab@faa.gov.

SUPPLEMENTARY INFORMATION:

Discussion

AD 2018-01-12, Amendment 39-19153 (83 FR 2039, January 16, 2018) applied to Airbus Helicopters Model AS350B3 helicopters with a dual hydraulic system installed. AD 2018-01-12 required revising the rotorcraft flight manual (RFM) to perform the yaw load compensator check (ACCU TST switch) after rotor shut-down instead of during preflight procedures and to state that the yaw servo hydraulic switch (collective switch) must be in the “ON” (forward) position before taking off. AD 2018-01-12 also required modifying the yaw servo hydraulic switch and replacing the bistable ACCU TST button with a monostable button.

We issued AD 2018-01-12 to prevent takeoff without hydraulic pressure in the tail rotor (T/R) hydraulic system, loss of T/R flight control, and subsequent loss of control of the helicopter.

As published, AD 2018-01-12 contained an incorrect P/N in the preamble and regulatory text. Specifically, the AD identified the Geneva Aviation P122 and P132 electrical console monostable toggle switch P/N as “MS24658-16F.” The correct P/N is “MS24658-26F.”

Accordingly, we have determined that it is appropriate to take action to revise AD 2018-01-12 to correct the Geneva Aviation P122 and P132 electrical console monostable toggle switch P/N. This correction will ensure that it will be possible for operators to comply with the AD by referencing the correct P/N for replacing the toggle switch.

No other part of the preamble or regulatory information has been changed. The final rule is reprinted in its entirety for the convenience of affected operators.

Impact of the Correction

Since this action corrects an obvious error in referencing the P/N for a replacement part, it has no adverse economic impact and imposes no additional burden on any person. Therefore, we find that notice and opportunity for prior public comment are unnecessary and that good cause exists for making this amendment effective in less than 30 days.

Related Service Information Under 1 CFR Part 51

We reviewed Airbus Helicopters Service Bulletin (SB) No. AS350-67.00.64, Revision 0, dated February 25, 2015. This service information specifies procedures to install a timer relay and an additional indicator light on the caution and warning panel. This modification provides an “OFF” status indication of the yaw servo hydraulic switch by flashing a newly installed “HYD2” indicator light on the caution and warning panel. Airbus Helicopters identifies performance of this SB as modification 074622.

We also reviewed Airbus Helicopters SB No. AS350-67.00.65, Revision 0, dated August 25, 2016. This service information specifies procedures to replace the bistable push button ACCU TST switch with a monostable push button switch. Airbus Helicopters identifies performance of this SB as modification 074719.

This service information is reasonably available because the interested parties have access to it through their normal course of business or by the means identified in the ADDRESSES section.

Other Related Service Information

We reviewed Airbus Helicopters SB No. AS350-67.00.66, Revision 1, dated October 22, 2015. This service information specifies inserting specific pages of the SB into the rotorcraft flight manual. These pages revise the preflight and post-flight hydraulic checks by moving the T/R yaw load compensator check from preflight to post-flight. These pages also revise terminology within the flight manuals for the different engine configurations.

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of the same type design.

Costs of Compliance

We estimate that this AD affects 86 helicopters of U.S. Registry. We estimate that operators may incur the following costs in order to comply with this AD. Labor costs are estimated at $85 per work-hour.

Revising an RFM takes about 0.5 work-hour for a cost of $43 per helicopter and $3,698 for the U.S. fleet. Installing a timer relay for the yaw servo hydraulic switch and an indicator light takes about 9 work-hours and parts cost about $2,224. Replacing the ACCU TST button takes about 1 work-hour and parts cost about $2,244.

Based on these figures, we estimate a total cost of $5,361 per helicopter and $461,046 for the U.S. fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Correction

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-01-12, Amendment 39-19153 (83 FR 2039, January 16, 2018), and adding the following new AD:

2018-01-12 R1 Airbus Helicopters: Amendment 39-19204; Docket No. FAA-2017-0826; Product Identifier 2016-SW-084-AD.

(a) Applicability

This AD applies to Model AS350B3 helicopters with a dual hydraulic system installed, certificated in any category.

Note 1 to paragraph (a) of this AD: The dual hydraulic system for Model AS350B3 helicopters is referred to as Airbus modification OP 3082 or OP 3346.

(b) Unsafe Condition

This AD defines the unsafe condition as lack of hydraulic pressure in a tail rotor (T/R) hydraulic system. This condition could result in loss of T/R flight control and subsequent loss of control of the helicopter.

(c) Affected ADs

This AD replaces AD 2018-01-12, Amendment 39-19153 (83 FR 2039, January 16, 2018).

(d) Effective Date

This AD becomes effective March 2, 2018.

(e) Compliance

You are responsible for performing each action required by this AD within the specified compliance time unless it has already been accomplished prior to that time.

(f) Required Actions

(1) Before further flight, insert a copy of this AD into the rotorcraft flight manual, Section 4 Normal Operating Procedures, or make pen and ink changes to the preflight and post-flight procedures as follows:

(i) Stop performing the yaw load compensator check (ACCU TST switch) during preflight procedures, and instead perform the yaw load compensator check during post-flight procedures after rotor shut-down.

(ii) The yaw servo hydraulic switch (collective switch) must be in the “ON” (forward) position before takeoff.

Note 2 to paragraph (f)(1)(ii) of this AD: The yaw servo hydraulic switch is also called the hydraulic pressure switch or hydraulic cut off switch in various Airbus Helicopters rotorcraft flight manuals.

(2) Within 350 hours time-in-service:

(i) Install a timer relay for the yaw servo hydraulic switch (collective switch) by following the Accomplishment Instructions, paragraph 3.B.2.b.1, 3.B.2.b.2, 3.B.2.b.3, 3.B.2.b.4, 3.B.2.b.5, or 3.B.2.b.6, as applicable to the configuration of your helicopter, of Airbus Helicopters Service Bulletin (SB) No. AS350-67.00.64, Revision 0, dated February 25, 2015 (AS350-67.00.64). If your helicopter has an automatic pilot system, also comply with paragraph 3.B.2.b.7 of AS350-67.00.64.

(ii) Install an indicator light on the caution and warning panel by following the Accomplishment Instructions, paragraph 3.B.2.c.1 or 3.B.2.c.2, as applicable to the configuration of your helicopter, of AS350-67.00.64.

(iii) For helicopters with a Geneva Aviation P122 or P132 electrical console installed, replace the ESN-11 HYD TEST (ACCU TST) switch with a monostable toggle switch part number MS24658-26F.

(iv) For helicopters without a Geneva Aviation P122 or P132 electrical console installed, replace the bistable ACCU TST button on the control panel with a monostable button as depicted in Figure 1 or Figure 3, as applicable to the configuration of your helicopter, of Airbus Helicopters SB No. AS350-67.00.65, Revision 0, dated August 25, 2016.

(3) After the effective date of this AD, do not install a bistable ACCU TST button on any helicopter.

(g) Special Flight Permits

A special flight permit may be issued for paragraph (f)(2) of this AD only.

(h) Alternative Methods of Compliance (AMOCs)

(1) The Manager, Safety Management Section, Rotorcraft Standards Branch, FAA, may approve AMOCs for this AD. Send your proposal to: George Schwab, Aviation Safety Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(i) Additional Information

(1) Airbus Helicopters SB No. AS350-67.00.66, Revision 1, dated October 22, 2015, which is not incorporated by reference, contains additional information about the subject of this AD. For service information identified in this AD, contact Airbus Helicopters, 2701 N. Forum Drive, Grand Prairie, TX 75052; telephone (972) 641-0000 or (800) 232-0323; fax (972) 641-3775; or at http://www.helicopters.airbus.com/website/en/ref/Technical-Support_73.html. You may review a copy of the service information at the FAA, Office of the Regional Counsel, Southwest Region, 10101 Hillwood Pkwy., Room 6N-321, Fort Worth, TX 76177.

(2) The subject of this AD is addressed in European Aviation Safety Agency (EASA) AD No. 2016-0220, dated November 4, 2016. You may view the EASA AD on the internet at http://www.regulations.gov by searching for and locating it in Docket No. FAA-2017-0826.

(j) Subject

Joint Aircraft Service Component (JASC) Code: 2910, Main Hydraulic System.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on February 20, 2018 (83 FR 2039, January 16, 2018).

(i) Airbus Helicopters Service Bulletin No. AS350-67.00.64, Revision 0, dated February 25, 2015.

(ii) Airbus Helicopters Service Bulletin No. AS350-67.00.65, Revision 0, dated August 25, 2016.

(4) For Airbus Helicopters service information identified in this AD, contact Airbus Helicopters, 2701 N Forum Drive, Grand Prairie, TX 75052; telephone (972) 641-0000 or (800) 232-0323; fax (972) 641-3775; or at http://www.helicopters.airbus.com/website/en/ref/Technical-Support_73.html.

(5) You may view this service information at FAA, Office of the Regional Counsel, Southwest Region, 10101 Hillwood Pkwy., Room 6N-321, Fort Worth, TX 76177. For information on the availability of this material at the FAA, call (817) 222-5110.

(6) You may view this service information that is incorporated by reference at the National Archives and Records Administration (NARA). For information on the availability of this material at NARA, call (202) 741-6030, or go to: http://www.archives.gov/federal-register/cfr/ibr-locations.html.

Issued in Fort Worth, Texas, on February 16, 2018.
Lance T. Gant,
Director, Compliance & Airworthiness Division, Aircraft Certification Service.

[FR Doc. 2018-03722 Filed 3-1-18; 8:45 am]

BILLING CODE 4910-13-P